DEPARTMENT OF LABOR

Employment and Training Administration

[TA-W-58,895]

Slater Companies; Pawtucket, RI; Notice of Termination of Investigation

Pursuant to Section 221 of the Trade Act of 1974, as amended, an investigation was initiated on February 23, 2006 in response to a petition filed by the State of Rhode Island on behalf of workers at Slater Companies, Pawtucket, Rhode Island.

The petitioner has requested that the petition be withdrawn. Consequently, the investigation has been terminated.

Signed at Washington, DC this 2nd day of May, 2006.
Linda G. Poole,
Certifying Officer, Division of Trade Adjustment Assistance.

[FR Doc. E6-7520 Filed 5-16-06; 8:45 am]

BILLING CODE 4510-30-P